ENVIRONMENTAL PROTECTION AGENCY

[EPA-HQ-OAR-2004-0093; FRL-9982-94-OAR]

Information Collection Request Submitted to OMB for Review and Approval; Comment Request; Clean Air Act Tribal Authority (Renewal)

AGENCY: Environmental Protection Agency (EPA).

ACTION: Notice.

SUMMARY: The Environmental Protection Agency (EPA) has submitted an information collection request (ICR), “Clean Air Act Tribal Authority (Renewal)” (EPA ICR No. 1676.07, OMB Control No. 2060-0306) to the Office of Management and Budget (OMB) for review and approval in accordance with the Paperwork Reduction Act. This is a proposed extension of the ICR, which is currently approved through December 31, 2018. Public comments were previously requested via the Federal Register on May 15, 2018, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before October 1, 2018.

ADDRESSES: Submit your comments, referencing Docket ID Number EPA-HQ-2004-0093, to (1) EPA online using www.regulations.gov (our preferred method), by email to a-and-r-docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Pat Childers, Office of Air and Radiation, Immediate Office, (6101A), Environmental Protection Agency, 1200 Pennsylvania Ave. NW, Washington, DC 20460; telephone number: 202-564-1082; fax number: 202-564-0394; email address: childers.pat@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: This Information Collection Request (ICR) seeks authorization for tribes to demonstrate their eligibility to be treated in the same manner as states under the Clean Air Act (CAA) and to submit applications to implement a CAA program. This ICR extends the collection period of information for determining eligibility, which expires December 31, 2018. The ICR maintains the estimates of burden costs for tribes in completing a CAA application.

The program regulation provides for Indian tribes, if they choose, to assume responsibility for the development and implementation of CAA programs. The regulation, Indian Tribes: Air Quality Planning and Management (Tribal Authority Rule [TAR] 40 CFR parts 9, 35, 49, 50, and 81) sets forth how tribes may seek authority to implement their own air quality planning and management programs. This rule establishes: (1) Which CAA provisions Indian tribes may seek authority to implement; (2) What requirements the tribes must meet when seeking such authorization; and (3) What federal financial assistance may be available to help tribes establish and manage their air quality programs. The TAR provides tribes the authority to administer air quality programs over all air resources, including non-Indian owned fee lands, whining the exterior boundaries of a reservation and other areas over which the tribe can demonstrate jurisdiction. An Indian tribe that takes responsibility for a CAA program would essentially be treated in the same way as a state would be treated for that program.

Form Numbers: None.

Respondents/Affected Entities: States, locals, Indian tribes.

Respondent's Obligation to Respond: Voluntary, required to obtain or retain a benefit Tribal Authority Rule [TAR] 40 CFR parts 9, 35, 49, 50 and 81).

Estimated Number of Respondents: 8 (total).

Frequency of Response: One-time applications.

Total Estimated Burden: 320 hours (per year). Burden is defined at 5 CFR 1320.03(b).

Total Estimated Cost: $18,896.00 (per year), includes $0 annualized capital or operation & maintenance costs.

Changes in the Estimates: There is no change of hours in the total estimated respondent burden compared with the ICR currently approved by OMB.

Dated: August 15, 2018.
Pat Childers,
OAR Tribal Program Coordinator.

[FR Doc. 2018-18857 Filed 8-29-18; 8:45 am]

BILLING CODE 6560-50-P